ENVIRONMENTAL PROTECTION AGENCY

40 CFR Part 300

[FRL-7624-1]

National Oil and Hazardous Substances Pollution Contingency Plan; National Priorities List

AGENCY: Environmental Protection Agency.

ACTION: Notice of intent to delete the Florence Land Recontouring Landfill Superfund Site from the National Priorities List.

SUMMARY: The Environmental Protection Agency (EPA) Region II Office announces its intent to delete the Florence Land Recontouring Landfill Superfund Site (Site) from the National Priorities List (NPL) and requests public comment on this action. Within the NPL, this Site is listed as being located in the Township of Florence. However, portions of the Site are also located in the Townships of Mansfield and Springfield, Burlington County, New Jersey. The NPL constitutes appendix B to the National Oil and Hazardous Substances Pollution Contingency Plan (NCP), 40 CFR part 300, which EPA promulgated pursuant to section 105 of the Comprehensive Environmental Response, Compensation and Liability Act (CERCLA) of 1980, as amended. EPA and the State of New Jersey, through the Department of Environmental Protection (NJDEP), have determined that all appropriate remedial actions have been implemented at the Site and no further fund-financed remedial action is appropriate under CERCLA. Moreover, EPA and NJDEP have determined that the Site poses no significant threat to public health or the environment.

DATES: The EPA will accept comments concerning its proposal for deletion until March 19, 2004.

ADDRESSES: Comments should be mailed to: Mark Austin, Remedial Project Manager, New Jersey Remediation Branch, Emergency and Remedial Response Division, U.S. Environmental Protection Agency, Region II, 290 Broadway, 19th Floor, New York, New York 10007-1866.

Comprehensive information on the Site is contained in the Administrative Record and is available for viewing by appointment only at: U.S. EPA Records Center, 290 Broadway, Room 1828, New York, New York 10007-1866. Hours: 9 a.m. to 5 p.m.-Monday through Friday. Contact the Records Center at (212) 637-4308.

Information on the Site is also available for viewing at the Information Repository located at: Florence Township Library, 1350 Hornberger Ave, Roebling, New Jersey 08554, (609) 499-0143.

FOR FURTHER INFORMATION CONTACT: Mark Austin, Remedial Project Manager, U.S. EPA, Region II, 290 Broadway, 19th Floor, New York, New York 10007-1866, phone: (212) 637-3954; fax: (212) 637-4429; e-mail: austin.mark@epa.gov.

SUPPLEMENTARY INFORMATION:

Table of Contents

I. Introduction

II. NPL Deletion Criteria

III. Deletion Procedures

IV. Basis for Site Deletion

I. Introduction

The United States Environmental Protection Agency (EPA) Region II announces its intent to delete the Florence Land Recontouring Landfill Superfund Site (Site) from the National Priorities List (NPL) and requests public comment on this action. The NPL constitutes appendix B to the National Oil and Hazardous Substances Pollution Contingency Plan (NCP), 40 CFR part 300, which EPA promulgated pursuant to section 105 of the Comprehensive Environmental Response, Compensation and Liability Act (CERCLA) of 1980, as amended. The NPL is a list maintained by EPA of Sites that EPA has determined to present a significant risk to public health or the environment. Sites on the NPL may be the subject of remedial actions financed by the Hazardous Substances Superfund (Fund).

The Site is located on Cedar Lane, in the townships of Florence, Mansfield and Springfield, Burlington County, New Jersey. The property encompasses approximately 60 acres. Out of the 60 acres, the area which contains the actual landfilled wastes is 29 acres. Florence Land Recontouring, Inc. operated the Site from 1973 to 1981. The Site was utilized as a solid waste landfill to accept sanitary and industrial (non-chemical) waste, including septage and sewage sludge.

At the Site, a Remedial Investigation and Feasibility Study (RI/FS) was conducted by an engineering consulting firm under the direction of the NJDEP. EPA, along with the NJDEP, selected and implemented the remedy. The NJDEP approved an operation and maintenance plan and currently implements it.

EPA will accept comments concerning its intent to delete this Site for thirty (30) days after publication of this notice in the Federal Register and a newspaper of record.

II. NPL Deletion Criteria

The NCP established the criteria that the Agency uses to delete sites from the NPL. In accordance with 40 CFR 300.425(e), sites may be deleted from the NPL where no further response is appropriate. In making this determination, EPA, in consultation with the NJDEP, will consider whether any of the following criteria have been met:

(i) Responsible parties or other persons have implemented all appropriate response actions required; or

(ii) All appropriate Fund-financed responses under CERCLA have been implemented, and no further response action by responsible parties is appropriate; or

(iii) The remedial investigation has shown that the release poses no significant threat to public health or to the environment and, therefore, taking remedial measures is not appropriate.

EPA will not conduct any further activities at this Site because EPA believes that the Site poses no significant threat to public health or to the environment. If new information becomes available which indicates the need for further action, EPA may initiate such actions under § 300.425(e)(3) of the NCP. Pursuant to 40 CFR 300.425(e) of the NCP, any site or portion of a site deleted from the NPL remains eligible for Fund-financed remedial actions if conditions at the site warrant such action.

III. Deletion Procedures

The following procedures were used for the intended deletion of this Site:

1. The Site was listed on the NPL in September 1984 based on investigations by NJDEP and the County of Burlington, New Jersey.

2. During 1985 and 1986, a Remedial Investigation and Feasibility Study (RI/FS) was conducted by Black and Veatch, an engineering consulting firm under the direction of the NJDEP, to characterize and evaluate Site contamination. NJDEP is the lead Agency for this site and EPA is the support Agency.

3. EPA issued a comprehensive Record of Decision (ROD) for the site on June 27, 1986.

4. The construction phase of the remediation was completed and found to be consistent with the ROD in a Preliminary Closeout Report dated September 25, 1998.

5. In March of 1994, the NJDEP approved an operation and maintenance (O&M) plan. The O&M activities are being performed by NJDEP, Burlington County, as a NJDEP contractor, and a Potentially Responsible Party (PRP), specifically for removing and disposal of collected leachate. EPA and NJDEP believe that O&M continues to be adequately performed by these parties.

6. EPA approved the Remedial Action report on September 28, 2001. The Remedial Action report contains detailed information on the construction and demonstrates that the remedy is operational and functional.

7. NJDEP began a five-year monitoring period for the Site in September 1997. Groundwater and surface water data continues to be collected. To date, no volatile or semi-volatile compounds have been detected. Contamination levels in the monitoring wells have declined during the monitoring period. Methane levels continue to be generally low.

8. EPA recommends the deletion of the Site and has prepared the relevant documents.

9. The NJDEP has concurred with the deletion decision in a letter dated September 19, 2002.

10. Concurrent with this national Notice of Intent to Delete, a notice has been published in a local newspaper and appropriate notice has been distributed to federal, state and local officials, and other interested parties. This notice announces a thirty-day public comment period on the deletion, which starts on the date of publication of this notice in the Federal Register and a newspaper of record.

11. EPA placed all relevant site documents in the Site information repositories identified above.

12. Upon completion of the thirty (30) day public comment period, EPA will evaluate all comments received before issuing the final decision on the deletion. EPA will prepare a Responsiveness Summary, if appropriate, for comments received during the public comment period which will address the concerns raised. The Responsiveness Summary will be made available to the public at the information repositories. If, after review of all public comments, EPA determines that the deletion from the NPL is appropriate, EPA will publish a final notice of deletion in the Federal Register. Deletion of the Site does not actually occur until the final Notice of Deletion is published in the Federal Register.

Deletion of a site from the NPL does not itself create, alter, or revoke any person's rights or obligations. Deletion from the NPL does not alter EPA's right to take appropriate enforcement actions. The NPL is designed primarily for informational purposes and to assist Agency management.

IV. Basis for Site Deletion

The following summary provides EPA's rationale for deletion of the Florence Land Recontouring Landfill Superfund Site from the NPL and EPA's finding that the criteria in 40 CFR 300.425(e) are satisfied:

Background

The Florence Land Recontouring Landfill Superfund Site is listed in the NPL as located in the Township of Florence, Burlington County, New Jersey. However, the Site extends into Mansfield and Springfield Townships. The property boundary encompasses approximately 60 acres. Out of the 60 acres, the area which contains the actual landfilled wastes is 29 acres. Florence Land Recontouring, Inc. operated the Site from 1973 to 1981. The Site was utilized as a solid waste landfill to accept sanitary and industrial (non-chemical) waste, including septage and sewage sludge. In 1975, an investigation by the NJDEP disclosed chemical waste disposal at the Site. In July 1981, Florence Land Recontouring, Inc. submitted a final closure plan and operations terminated in November 1981. The Site was proposed for listing on the NPL in September 1983 and was added to the NPL in September 1984.

Selected Remedy

During 1985 and 1986, a Remedial Investigation and Feasibility Study (RI/FS) was conducted. The RI/FS revealed that the main source of environmental concern at the Site was the reported deposition of hazardous waste, including phthalates, heavy metals and vinyl chloride monomers. Sampling and analysis of leachate in wastefill wells indicated the presence of volatile organic compounds and heavy metals.

On June 27, 1986, EPA, with the NJDEP's concurrence, issued a Record of Decision (ROD). The major components of the selected remedy consisted of the construction of a synthetic membrane and clay composite cap, construction of a circumferential soil/bentonite slurry containment wall, construction of an up-gradient groundwater interceptor system, construction of a new storm water management system, leachate treatment and disposal at a publicly owned treatment works, gas collection and treatment, removal and disposal of lagoon liquids and sediments, construction of a fence with warning signs, and supplemental sampling of groundwater, surface water, and sediments during design.

Cleanup

The landfill cap construction began in April 1993. The work was performed by a NJDEP contractor using state and federal funds. All construction for the Site required by the ROD was completed in August 1994. EPA issued a Preliminary Closeout Report on September 25, 1998. The only ongoing activities consist of the operation and maintenance of the cap and various systems, including the gas and leachate collection systems and the groundwater interceptor system. Landfill gas is removed from the landfill at an average of 40 cubic feet per minute. Leachate generation has slowed from an average of 10,000 gallons per day when the collection system was first installed to an average of 30,000 gallons per week and is expected to continue to diminish.

Groundwater and surface water monitoring were conducted annually for five years in accordance with the NJDEP's 1997 five-year monitoring plan, and soil gas monitoring is conducted quarterly in the capped and surrounding areas. Methane levels have generally been low. No volatiles or semi-volatiles have been detected.

Post-construction sampling and testing results indicate to EPA and the NJDEP that the construction was properly implemented, consistent with the requirements of the ROD. This information is also contained in a Remedial Action report approved by EPA.

The cleanup of the Site was performed in compliance with “clean closure” requirements and consistent with the Resource Conservation and Recovery Act of 1976, as amended, CERCLA, as amended, and the NCP.

Hazardous substances remain at this Site above health-based levels. It is the policy of EPA (OSWER Directive 9355.7-03B-P) to review remedial actions selected in RODs signed prior to the enactment of the Superfund Amendments and Reauthorization Act of 1986 (SARA). The first Five-Year review will be completed prior to September 2003.

Major Community Involvement Activities

Public participation activities for the Site have been satisfied as required in CERCLA section 113(k), 42 U.S.C. 9613(k), and CERCLA section 117, 42 U.S.C. 9617. All documents and information which EPA relied on or considered in recommending that no further activities are necessary at the Site, and that the Site can be deleted from the NPL, are available for the public to review at the information repositories.

One of the three criteria for site deletion specifies that EPA may delete a site from the NPL if “all appropriate Fund-financed response under CERCLA has been implemented, and no further response action by responsible parties is appropriate.” 40 CFR 300.425(e)(1)(ii). EPA, with the concurrence of the NJDEP, believes that this criterion for deletion has been met. Subsequently, EPA is proposing deletion of this Site from the NPL.

In a letter dated September 19, 2002, the NJDEP concurred with EPA.

Additionally, although EPA's ROD did not require institutional controls, NJDEP independently requires institutional controls, in the form of a deed notice, for this landfill under its landfill closure and post-closure regulations (New Jersey Solid Waste Regulations, N.J.A.C 7:26-2A.9). This deed notice would remain in effect in perpetuity, and would require prior approval from the NJDEP before any future disturbance at the landfill.

List of Subjects in 40 CFR Part 300

Environmental protection, Air pollution control, Chemicals, Hazardous waste, Hazardous substances, Intergovernmental relations, Penalties, Reporting and recordkeeping requirements, Superfund, Water pollution control, Water supply.

Dated: June 9, 2003.
Anthony Cancro,
Acting Regional Administrator, Region 2.

Editorial note: This document was received at the Office of the Federal Register on February 11, 2004.

[FR Doc. 04-3368 Filed 2-17-04; 8:45 am]

BILLING CODE 6560-50-P